DEPARTMENT OF AGRICULTURE

Forest Service

Sierra County, CA, Resource Advisory Committee

AGENCY: Forest Service, USDA.

ACTION: Notice of meeting.

SUMMARY: The Sierra County Resource Advisory Committee (RAC) will meet on April 14, 2010, in Sierraville, California. The purpose of the meeting is to discuss issues relating to implementing the Secure Rural Schools and Community Self-Determination Act of 2000 (Payments to States) as reauthorized by Public Law 110-343 and the expenditure of Title II funds benefiting National Forest System lands on the Humboldt-Toiyabe, Plumas and Tahoe National Forests in Sierra County.

DATES: The meeting will be held Wednesday, April 14, 2010 at 10 a.m.

ADDRESSES: The meeting will be held at the Sierraville Ranger Station, 317 S. Lincoln, Sierraville, CA.

FOR FURTHER INFORMATION CONTACT: Ann Westling, Committee Coordinator, USDA, Tahoe National Forest, 631 Coyote St., Nevada City, CA 95959, (530) 478-6205, e-mail: awestling@fs.fed.us

SUPPLEMENTARY INFORMATION: Agenda items to be covered include: (1) Welcome and introductions; (2) Overview of authorizing legislation; (3) Discussion of operating and project approval guidelines; (4) Election of RAC chair; and (5) Comments from the public. The meeting is open to the public and the public will have an opportunity to comment at the meeting.

Dated: March, 31, 2010.
Tom Quinn,
Forest Supervisor.

[FR Doc. 2010-7725 Filed 4-7-10; 8:45 am]

BILLING CODE 3410-11-M